INTERNATIONAL TRADE COMMISSION

[Investigation No. 731-Ta-1094 (Final)]

Metal Calendar Slides from Japan

Determination

On the basis of the record ¹ developed in the subject investigation, the United States International Trade Commission (Commission) determines, pursuant to section 735(b) of the Tariff Act of 1930 (19 U.S.C. 1673d(b)) (the Act), that an industry in the United States is not materially injured or threatened with material injury, and the establishment of an industry in the United States is not materially retarded, by reason of imports from Japan of metal calendar slides, provided for in subheading 7326.90.10 of the Harmonized Tariff Schedule of the United States, that have been found by the Department of Commerce (Commerce) to be sold in the United States at less than fair value (LTFV).

¹ The record is defined in sec. 207.2(f) of the Commission's Rules of Practice and Procedure (19 CFR § 207.2(f)).

Background

The Commission instituted this investigation effective June 29, 2005 (70 FR 39788, July 11, 2005), following receipt of a petition filed with the Commission and Commerce by Stuebing Automatic Machine Co., Cincinnati, OH. The final phase of the investigation was scheduled by the Commission following notification of a preliminary determination by Commerce that imports of metal calendar slides from Japan were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of February 13, 2006 (71 FR 7574). The hearing was held in Washington, DC, on June 22, 2006, and all persons who requested the opportunity were permitted to appear in person or by counsel.

Issued: August 3, 2006.
By order of the Commission.
Marilyn R. Abbott,
Secretary to the Commission.

[FR Doc. E6-12869 Filed 8-7-06; 8:45 am]

BILLING CODE 7020-02-P